DEPARTMENT OF TRANSPORTATION

Coast Guard

[USCG-2000-6780]

Information Collection Under Review by the Office of Management and Budget (OMB): 2115-0622, 2115-0525, 2115-0548 and 2115-0586

AGENCY: Coast Guard, DOT.

ACTION: Request for comments.

SUMMARY: In compliance with the Paperwork Reduction Act of 1995, this request for comments announces that the Coast Guard has forwarded the four Information Collection Reports (ICRs) abstracted below to OMB for review and comment. Our ICRs describe the information that we seek to collect from the public. Review and comment by OMB ensure that we impose only paperwork burdens commensurate with our performance of duties.

DATES: Please submit comments on or before May 30, 2000.

ADDRESSES: Please send comments to both (1) the Docket Management System (DMS), U.S. Department of Transportation (DOT), room PL-401, 400 Seventh Street S.W., Washington, DC 20590-0001, and (2) the Office of Information and Regulatory Affairs (OIRA), Office of Management and Budget (OMB), 725 17th Street NW., Washington, DC 20503, to the attention of the Desk Officer for the USCG.

Copies of the complete ICRs are available for inspection and copying in public docket USCG-2000-6780 of the Docket Management Facility between 10 a.m. and 5 p.m., Monday through Friday, except Federal holidays; for inspection and printing on the internet at http://dms.dot.gov; and for inspection from the Commandant (G-SII-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Walker, Chief, Documentary Services Division, U.S. Department of Transportation, 202-366-9330, for questions on the docket.

SUPPLEMENTARY INFORMATION:

Regulatory History

This request constitutes the 30-day notice required by OMB. The Coast Guard has already published (65 FR 6437 (February 9, 2000)) the 60-day notice required by OMB. That request elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG-2000-6780. Comments to OIRA are best assured of having their full effect if OIRA receives them 30 or fewer days after the publication of this request.

Information Collection Requests

1. Title: Security of Passenger Vessels and Passenger Terminals.

OMB Control Number: 2115-0622.

Type of Request: Extension of currently approved collection.

Affected Public: Certain owners of passenger vessels and passenger terminals.

Form(s): N/A.

Abstract: The purpose of the rules on the security of passenger vessels and passenger terminals is to deter, or mitigate the results of, terrorism and other unlawful acts against such vessels and terminals. The rules should reduce the likelihood of such acts and should reduce the damage to property and injury to persons, if such acts occur.

Annual Estimated Burden Hours: The estimated burden is 1,811 hours annually.

2. Title: Plan/Drawing Approval and Records for Safety Valves—46 CFR Part 162.

OMB Control Number: 2115-0525.

Type of Request: Extension of a currently approved collection.

Affected Public: Equipment manufacturers.

Forms: N/A.

Abstract: Requirements for submission of plans and drawings and test reports for safety equipment and materials are necessary so the Coast Guard can determine whether items meet minimum levels of safety and performance and whether they serve to identify the approved items.

Annual Estimated Burden Hours: The estimated burden is 58 hours annually.

3. Title: Vital System Automation—46 CFR parts 52, 56, 58, 61, 62, 110, 111, and 113.

OMB Control Number: 2115-0548.

Type of Request: Extension of a currently approved collection.

Affected Public: Vessel designers, shipyards, manufacturers, and vessel owners.

Forms: N/A.

Abstract: This collection pertains to the vital system automation on commercial vessels that is necessary to protect personnel and property on board U.S.-flag vessels.

Annual Estimated Burden Hours: The estimated burden is 57,375 hours annually.

4. Title: Marine Occupational Health and Safety Standards for Benzene—46 CFR part 197, subpart C.

OMB Control Number: 2115-0586.

Type of Request: Extension of a currently approved collection.

Affected Public: Vessel owners and operators.

Forms: N/A.

Abstract: To protect marine workers from exposure to toxic Benzene vapor, the Coast Guard implemented 46 CFR part 197, subpart C.

Annual Estimated Burden Hours: The estimated burden is 59,775 hours annually.

Dated: April 17, 2000.
Daniel F. Sheehan,
Director of Information and Technology.

[FR Doc. 00-10606 Filed 4-27-00; 8:45 am]

BILLING CODE 4910-15-U